DEPARTMENT OF LABOR

Employment and Training Administration

[TA-W-71,054C]

Apria Healthcare, Including On-Site Leased Workers From Corestaff, Ultimate Staffing (Roth Staffing Companies), and Aerotek, Cromwell, CT; Amended Certification Regarding Eligibility To Apply for Worker Adjustment Assistance

In accordance with section 223 of the Trade Act of 1974, as amended (“Act”), 19 U.S.C. 2273, the Department of Labor issued a Certification of Eligibility to Apply for Worker Adjustment Assistance on November 23, 2009, applicable to workers of Apria Healthcare, including on-site leased workers from Corestaff, Cromwell, Connecticut. The notice was published in the Federal Register on January 25, 2010 (75 FR 3938).

At the request of the State agency, the Department reviewed the certification for workers of the subject firm. The workers are engaged in activities related to the information technology and patient billing and collection services.

Information shows that workers leased from Ultimate Staffing and Aerotek were employed on-site at the Cromwell, Connecticut location of Apria Healthcare. On-site leased workers from Ultimate Staffing had their wages reported under a separate unemployment insurance (UI) tax account for Roth Staffing Companies.

The Department has determined that these workers were sufficiently under the control of the subject firm to be considered leased workers.

Based on these findings, the Department is amending this certification to include workers leased from Ultimate Staffing (Roth Staffing Companies) and Aerotek working on-site at the Cromwell, Connecticut location of Apria Healthcare.

The amended notice applicable to TA-W-71,054 is hereby issued as follows:

All workers of Apria Healthcare, including on-site leased workers from Corestaff, Foothill Ranch, California (TA-W-71,054), Apria Healthcare, including on-site leased workers from Corestaff, Indianapolis, Indiana (TA-W-71,054A), Apria Healthcare, including on-site leased workers from Corestaff, Machesney Park, Illinois (TA-W-71,054B), Apria Healthcare, including on-site leased workers from Corestaff, Ultimate Staffing (Roth Staffing Companies) and Aerotek, Cromwell, Connecticut (TA-W-71,054C), Apria Healthcare, including on-site leased workers from Corestaff, Tampa, Florida (TA-W-71,054D), Apria Healthcare, including on-site leased workers from Corestaff, Minster, Ohio (TA-W-71,054E), Apria Healthcare, including on-site leased workers from Corestaff, St. Louis, Missouri (TA-W-71,054F), and Apria Healthcare, including on-site leased workers from Corestaff, San Diego, California (TA-W-71,054G), who became totally or partially separated from employment on or after June 5, 2008, through November 23, 2011, and all workers in the group threatened with total or partial separation from employment on date of certification through two years from the date of certification, are eligible to apply for adjustment assistance under Chapter 2 of Title II of the Trade Act of 1974, as amended.

Signed in Washington, DC, this 26th day of February 2010.
Del Min Amy Chen,
Certifying Officer, Division of Trade Adjustment Assistance.

[FR Doc. 2010-5308 Filed 3-11-10; 8:45 am]

BILLING CODE 4510-FN-P